DEPARTMENT OF LABOR

Employment and Training Administration

[TA-W-70,609]

DES/KDM; Working at FMC Manufacturing, LLC, a Subsidiary of Midwest Motorcycle Supply, Monmouth, IL; Amended Certification Regarding Eligibility To Apply for Worker Adjustment Assistance

In accordance with Section 223 of the Trade Act of 1974, as amended (“Act”), 19 U.S.C. 2273, the Department of Labor issued a Certification of Eligibility to Apply for Worker Adjustment Assistance on September 28, 2009, applicable to workers of FMC Manufacturing, LLC, a subsidiary of Midwest Motorcycle Supply, Monmouth, Illinois. The notice will be published soon in the Federal Register.

At the request of the State agency, the Department reviewed the certification for workers of the subject firm. The workers are engaged in the production of motorcycle frames, swing arms and handlebars.

Information shows that the correct identity of the subject firm worker group should read DES/KDM Working at FMC Manufacturing, LLC, a subsidiary of Midwest Motorcycle Supply, Monmouth, Illinois. The workers separated from employment at the subject firm had their wages reported under a separated unemployment insurance (UI) tax account for DES/KDM.

Accordingly, the Department is amending this certification to properly reflect this matter.

The intent of the Department's certification is to include all workers of the subject firm who were adversely affected by increased imports of motorcycle frames, swing arms and handlebars.

The amended notice applicable to TA-W-70,609 is hereby issued as follows:

All workers of DES/KDM working at FMC Manufacturing, LLC, a subsidiary of Midwest Motorcycle Supply, Monmouth, Illinois, who became totally or partially separated from employment on or after May 22, 2008, through September 28, 2011, and all workers in the group threatened with total or partial separation from employment on date of certification through two years from the date of certification, are eligible to apply for adjustment assistance under Chapter 2 of Title II of the Trade Act of 1974, as amended.

Signed at Washington, DC this 10th day of November 2009.
Elliott S. Kushner,
Certifying Officer, Division of Trade Adjustment Assistance.

[FR Doc. E9-29151 Filed 12-7-09; 8:45 am]

BILLING CODE 4510-FN-P